DEPARTMENT OF HEALTH AND HUMAN SERVICES

Health Resources and Services Administration

Notice for Request for Nominations

AGENCY: Health Resources and Services Administration, HHS.

ACTION: Request for Nominations.

SUMMARY: The Health Resources and Services Administration (HRSA) is requesting nominations to fill current vacancies on three of the four Federal advisory committees administered by the Bureau of Health Professions: Advisory Committee on Training in Primary Care Medicine and Dentistry (ACTPCMD), Advisory Committee on Interdisciplinary, Community-Based Linkages (ACICBL), and the Council on Graduate Medical Education (COGME).

DATES: The Agency must receive nominations on or before April 13, 2011.

ADDRESSES: All nominations are to be submitted either by mail to Laura Burns, Bureau of Health Professions (BHPr), HRSA, Parklawn Building, Room 9-49, 5600 Fishers Lane, Rockville, Maryland 20857, or e-mail to lburns@hrsa.gov.

FOR FURTHER INFORMATION CONTACT: For additional information, contact Laura Burns, BHPr, by e-mail lburns@hrsa.gov or telephone at 301-443-6873. A copy of the current committee memberships, charters and reports can be obtained by accessing the HRSA Web site at http://www.hrsa.gov/advisorycommittees/advisorycmte.html.

SUPPLEMENTARY INFORMATION: Under the authorities that established these committees and the Federal Advisory Committee Act, HRSA is requesting nominations for membership on three committees.

The Advisory Committee on Training in Primary Care Medicine and Dentistry (ACTPCMD) provides advice and recommendations to the Secretary of the Department of Health and Human Services (the Secretary) and Congress on policy and program development concerning medicine, general pediatrics, general dentistry, pediatric dentistry and physician assistant programs. The ACTPCMD produces an annual report to the Secretary and Congress on issues related to improving public health, eliminating health care disparities, developing cultural competencies, and serving vulnerable populations. Meetings are held at least twice a year.

The Advisory Committee on Interdisciplinary, Community-Based Linkages (ACICBL) provides advice and recommendations on policy and program development to the Secretary and Congress concerning the BHPr programs that support interdisciplinary community-based training. The ACICBL also provides advice on programmatic matters concerning Area Health Education Centers, Health Education Training Centers, and the disciplines of Geriatrics and Allied Health. Meetings for this committee are held at least three times a year.

The Council on Graduate Medical Education (COGME) provides advice and makes policy recommendations to the Secretary and Congress on matters concerning the supply and distribution of physicians in the United States, physician workforce trends, training issues and financing policies. The COGME reports on such topics as primary care physician shortages and the long-term needs of the physician workforce. Meetings are held approximately twice a year.

All of the committees are charged with drafting annual reports to the Secretary and Congress regarding the activities within their purview. Qualified candidates will be invited to serve a 3-year term for ACTPCMD and ACICBL, and a 4-year term for COGME. Members for all committees will receive a stipend for each day (including travel time) during which such members are attending official meetings of a committee, as well as per diem and travel expenses as authorized by section 5 U.S.C. 5703 for persons employed intermittently in Government service. Potential candidates will be asked to provide detailed information concerning such matters as financial holdings, consultancies, research grants, and/or contracts to permit an evaluation of possible sources of conflicts of interest.

The Secretary appoints members who are practicing health professionals engaged in training, leaders from health professions organizations, faculty from health professions educational institutions, and health professionals working in public or private teaching hospitals or community-based settings.

The Department of Health and Human Services (the Department) is requesting numerous nominations for members who represent disciplines and stakeholder groups such as:

• Disciplines

○ Medicine (allopathic and osteopathic)

• Family medicine

• General internal medicine

• General pediatrics

• Interdisciplinary education with a focus on underserved areas

• Interdisciplinary geriatric training

• Physician assistant

○ Dentistry

• General dentistry

• Pediatric dentistry

• Dental hygiene

○ Nursing

• Advanced education nursing

• Interdisciplinary education with a focus on underserved areas

○ Other Disciplines and Expertise

• Allied health

• Chiropractic medicine

• Clinical social work

• Graduate clinical psychology

• Podiatric medicine (preventive and primary care)

• Professional counseling

• Geriatrics

• Students, residents or fellows representing the following schools:

○ Medicine (allopathic and osteopathic)

○ Physician assistant

○ Dentistry

○ Nursing

○ Graduates of International Medical Schools

• Stakeholder Organizations

○ Health professions organizations (including physicians, nursing and physician assistant organizations)

○ Health insurers

○ Business organizations interested in health professions recruitment and placement

○ Labor organizations representing health professions

○ Teaching hospitals, community hospitals and other institutions.

The Department is required to ensure that the membership of Federal advisory committees is fairly balanced in terms of points of view represented and the functions to be performed by the advisory committee. Every effort is made to ensure that the views of women, ethnic and racial groups, and people with disabilities are represented on the Federal advisory committees. The Department encourages nominations of qualified candidates from these groups. The Department also encourages geographic diversity in composition of these committees. Appointment to these committees shall be made without discrimination on the basis of age, race, ethnicity, gender, sexual orientation, disability, and cultural, religious, or socioeconomic status.

Interested persons may nominate one or more qualified persons for membership. Self-nominations are also accepted. Nominations must be typewritten. The following information should be included in the package of materials submitted for each individual being nominated: (1) A letter of nomination that includes: (a) The name and affiliation of the nominee, (b) the basis for the nomination (i.e., specific attributes that qualify the nominee for services in this capacity), (c) the committee or committees on which the nominee is eligible to serve as well as the nominee's committee preference; (2) contact information for both the nominator and nominee; (3) a current copy of the nominee's curriculum vitae; and (4) a statement of interest from the nominee stating that the nominee is willing to serve and has no apparent conflict of interest that would preclude membership.

Authority: Sections 749, 757, and 762 of the Public Health Service (PHS) Act, (42 U.S.C. 293l, 294f, 294o, and 297t), as amended by the Affordable Care Act. These committees, except where otherwise indicated in law, are governed by the Federal Advisory Committee Act, Public Law (Pub. L.) 92-463, as amended (5 U.S.C. Appendix 2), which sets forth standards for the formation and use of advisory committees.

Dated: February 24, 2011.
Reva Harris,
Acting Director, Division of Policy and Information Coordination.

[FR Doc. 2011-4629 Filed 3-1-11; 8:45 am]

BILLING CODE 4165-15-P